Proclamation 9489 of September 9, 2016

World Suicide Prevention Day, 2016

By the President of the United States of America

A Proclamation

Every year, too many people are taken from us by suicide. These tragedies tear at families and communities, leaving behind heartbroken loved ones who suffer immeasurably. World Suicide Prevention Day is a time to join with neighbors across the globe to reaffirm our commitment to preventing suicide. Here at home—thanks to dedicated crisis counselors on hotlines and in schools; clinicians and other health professionals in hospitals and mental health centers; faith leaders, teachers, friends, and family members who never give up on trying to make a meaningful difference—lives have been saved. Together, we can get people critical help when they are in crisis and raise awareness of the importance of preventing suicide in every community.

It is critical that we recognize the connections that mental health conditions and substance use disorders have to suicide, as well as how other external factors, including harassment, bullying, and discrimination, can play a role. Suicide can touch any of us—regardless of age, gender, or race—and leave a lasting mark on communities. We must strive to build safe and supportive environments and eliminate the stigma surrounding mental health issues that too often prevents people from seeking the care they need.

No one should feel alone when facing these challenges—there is always hope, and always a helping hand. My Administration has served as a partner in this important effort through the National Action Alliance for Suicide Prevention—a public-private partnership through which the Federal Government has helped champion suicide prevention. All Americans can make a difference in this effort. Reach out to a friend, let them know you are there in moments of need, and encourage others to seek assistance—because empowering others to find the strength to ask for help and lifting up those who feel alone can save lives. The National Suicide Prevention Lifeline provides immediate assistance for all Americans at 1-800-273-TALK, and I encourage you to call if you or someone you know is in need of help. Veterans, service members, and their loved ones can also call this number to reach the Veterans Crisis Line, and they can also send a text message to 838255.

The Affordable Care Act provides the largest expansion of mental health coverage in a generation, and it has helped increase access to quality, affordable health insurance for all Americans. The Act prohibits insurers from discriminating against people based on pre-existing conditions like depression, expands mental health and substance use disorder parity policies to more than 60 million Americans, and requires that Health Insurance Marketplace plans cover mental health and substance use disorder services. Additionally, my Administration proposed a new $500 million investment to increase access to mental health care. And because more than 20,000 Americans each year take their own lives with a firearm, we must do all we can to ensure people who need help get it and improve gun safety technology that can help prevent suicides.

We also have to end the tragedy of suicide among our troops and our veterans. These American heroes give of themselves for our country, and they deserve the best from us in return—so long as any veteran is suffering or feels like they have nowhere to turn, we have more work to do. In 2014, I announced 19 Executive actions to improve mental health care for our veterans, members of our Armed Forces, and their loved ones. And last year, to build on these efforts, I signed the Clay Hunt Suicide Prevention for American Veterans Act to improve how we serve veterans with post-traumatic stress and other illnesses. By increasing peer support and outreach to service members transitioning to civilian life, this Act makes it easier for veterans to find the care they need when they need it.

The theme of this year's World Suicide Prevention Day is “Connect. Communicate. Care.” These words provide a roadmap to reaching our universal goal of suicide prevention—encouraging all people to reach out to those who are suffering in silence, express when they are in need of help, and lift up those around them. On this day, we are reminded that help is available and that a brighter future lies ahead. Let us honor the souls we have lost too soon and vow to do everything in our power to prevent suicide.

NOW, THEREFORE, I, BARACK OBAMA, President of the United States of America, by virtue of the authority vested in me by the Constitution and the laws of the United States, do hereby proclaim September 10, 2016, as World Suicide Prevention Day. I call upon citizens, government agencies, organizations, health care providers, and research institutions to raise awareness of the mental health resources and support services available in their communities and encourage all those in need to seek the care and treatment necessary for a long and healthy life.

IN WITNESS WHEREOF, I have hereunto set my hand this ninth day of September, in the year of our Lord two thousand sixteen, and of the Independence of the United States of America the two hundred and forty-first.

[FR Doc. 2016-22291

Filed 9-13-16; 11:15 am]

Billing code 3295-F6-P